DEPARTMENT OF COMMERCE

International Trade Administration

Government Trade Information Request

ACTION: Proposed collection; comment request.

SUMMARY: The Department of Commerce, as part of its continuing effort to reduce paperwork and respondent burdens, invites the general public and other Federal agencies to take this opportunity to comment on the continuing information collections, as required by the Paperwork Reduction Act of 1995, Public Law 104-13 (44 U.S.C. 3506(c)(2)(A)).

DATES: Written comments must be submitted on or before February 6, 2007.

ADDRESSES: Direct all written comments to Diana Hynek, Departmental Paperwork Clearance Officer, Department of Commerce, Room 6625, 1401 Constitution Ave., NW., Washington, DC 20230, or e-mail dHynek@doc.gov.

FOR FURTHER INFORMATION CONTACT: Request for additional information or copies of the information collection instrument and instructions should be directed to: Jessica Sanderson, The Advocacy Center, Room 3814A, Department of Commerce, 1401 Constitution Ave., NW., Washington, DC 20230; Phone number: (202) 482-2429, and fax number: (202) 482-3508.

SUPPLEMENTARY INFORMATION:

I. Abstract

The U.S. Department of Commerce invites the general public and other Federal Agencies to comment on the proposed extension of the use of the U.S. Government (USG) Trade Information Request Form by the Trade Promotion Coordination Committee's (TPCC) Advocacy Network. The form is used to evaluate requests for USG advocacy in connection with overseas commercial bids, offers, and proposals directed at foreign governments. The International Trade Administration's (ITA) Advocacy Center marshals federal resources to assist U.S. commercial interests competing for foreign government commercial projects, procurements, investments, and business ventures worldwide. The mission of the Advocacy Center is to coordinate USG commercial advocacy in order to promote U.S. exports and trade, which both creates and sustains U.S. employment. The Advocacy Center works with and coordinates activities within the TPCC, which is chaired by the Secretary of Commerce and includes 19 federal agencies involved in export promotion.

The purpose of the Trade Information Request is to collect the information necessary to evaluate whether it would be in the U.S. national interest to provide advocacy on a specific case. USG advocacy guidelines exist to assist USG personnel in determining whether and to what extent USG advocacy is appropriate in connection with a transaction involving U.S. interests. The Trade Information Request Form was developed to collect only the information necessary to help the USG make a national interest determination consistent with the advocacy guidelines. The Advocacy Center, appropriate ITA officials, U.S. Embassy/Consulate officials worldwide, and other federal government agencies (the Advocacy Network) that provide advocacy support, will require firms seeking USG advocacy support to complete the request.

II. Method of Collection

When U.S. commercial interests request USG advocacy assistance, they are either sent Form ITA-4136P or referred to the Advocacy Center's Web site from which Form ITA-4136P may be downloaded, completed, signed, and filed.

III. Data

OMB Number: 0625-0238.

Form Number: ITA-4136P.

Type of Review: Regular Submission.

Affected Public: Commercial Interests seeking USG advocacy.

Estimated Number of Respondents: 200.

Estimated Time per Response: 30 minutes.

Estimated Total Annual Burden Hours: 205.

Estimated Total Annual Costs: $15,300.00 ($9,175.00 for respondents and $6,125.00 for federal government).

IV. Request for Comments

Comments are invited on (a) Whether the proposed collection of information is necessary for the proper performance of the functions of the agency, including whether the information shall have practical utility; (b) the accuracy of the agency's estimate of the burden (including hours and costs) of the proposed collection of information; (c) ways to enhance the quality, utility, and clarity of the information to be collected; and (d) ways to minimize the burden of the collection of information on respondents, including through the use of automated collection techniques or forms of information technology. Comments submitted in response to this notice will be summarized and/or included in the request for OMB approval of this information collection; they also will become a matter of public record.

Dated: December 5, 2006.
Madeleine Clayton,
Management Analyst, Office of the Chief Information Officer.

[FR Doc. E6-20881 Filed 12-7-06; 8:45 am]

BILLING CODE 3510-FP-P